DEPARTMENT OF COMMERCE

National Oceanic and Atmospheric Administration

RIN 0648-XC175

Permanent Advisory Committee to Advise the U.S. Commissioners to the Western and Central Pacific Fisheries Commission; Meeting Announcement

AGENCY: National Marine Fisheries Service (NMFS), National Oceanic and Atmospheric Administration (NOAA), Commerce.

ACTION: Notice of public meeting.

SUMMARY: NMFS announces a meeting of the Permanent Advisory Committee (PAC) to advise the U.S. Commissioners to the Western and Central Pacific Fisheries Commission (WCPFC) on October 25—October 26, 2012. Meeting topics are provided under the SUPPLEMENTARY INFORMATION section of this notice.

DATES: The meeting of the PAC will be held on October 25, 2012 from 8 a.m. to 5 p.m. HST (or until business is concluded) and October 26, 2012 from 8 a.m. to 5 p.m. HST (or until business is concluded).

ADDRESSES: The meeting will be held in the Ballroom A Meeting Room at the Modern Hotel, 1775 Ala Moana Boulevard, Honolulu, HI, 96815.

FOR FURTHER INFORMATION CONTACT: Oriana Villar, NMFS Pacific Islands Regional Office; telephone: 808-944-2256; facsimile: 808-973-2941; email: Oriana.Villar@noaa.gov.

SUPPLEMENTARY INFORMATION: In accordance with the Western and Central Pacific Fisheries Convention Implementation Act (the Act), the Department of Commerce, in consultation with the U.S. Commissioners, has appointed a Permanent Advisory Committee to advise the U.S. Commissioners to the WCPFC established under the Western and Central Pacific Fisheries Convention. The PAC supports the work of the U.S. National Section, which is made up of the U.S. Commissioners and the Department of State, to the WCPFC in an advisory capacity in the WCPFC. NMFS Pacific Islands Regional Office provides administrative and technical support to the PAC in cooperation with the Department of State. The next regular annual session of the WCPFC is scheduled for December 3—December 7, 2012, in Manila, Philippines. More information on this meeting can be found on the WCPFCs web site: http://wcpfc.int/.

Meeting Topics

The PAC meeting topics may include, but are not limited to, the following: (1) Outcomes of the 2011 and 2012 WCPFC Scientific Committee, Northern Committee, and Technical and Compliance Committee meetings; (2) development of conservation and management measures for bigeye, yellowfin and skipjack tuna and other species for 2013 and beyond; (3) development of a WCPFC compliance monitoring scheme; (4) issues related to the impacts of fishing on non-target, associated and dependent species, such as sea turtles, marine mammals, seabirds and sharks (5) input and advice from the PAC on issues that may arise at the 2012 WCPFC meetings, potential proposals from other WCPFC members; and (6) other issues as they arise.

Special Accommodations

The meeting location is physically accessible to people with disabilities. Requests for sign language interpretation or other auxiliary aids should be directed to Oriana Villar at (808) 944-2256 by October 10, 2012.

Authority: 16 U.S.C. 6902.

Dated: September 7, 2012.
Lindsay Fullenkamp,
Acting Deputy Director, Office of Sustainable Fisheries, National Marine Fisheries Service.

[FR Doc. 2012-22476 Filed 9-11-12; 8:45 am]

BILLING CODE 3510-22-P